DEPARTMENT OF TRANSPORTATION

Federal Highway Administration

Notice of Final Federal Agency Action on Proposed Highway in Georgia the Northwest I-75/I-575 Corridor, Cobb and Cherokee Counties, Georgia (Atlanta Metropolitan Area)

AGENCY: Federal Highway Administration (FHWA), DOT.

ACTION: Notice of Limitations on Claims for Judicial Review of Action by FHWA and Other Federal Agencies.

SUMMARY: This notice announces actions taken by FHWA and other Federal agencies that are final within the meaning of 23 U.S.C. 139(l)(1). The action relates to the Northwest (I-75/I-575) Corridor (from Akers Mill Road to Hickory Grove Road on Interstate 75 (I-75) and from I-75 to Sixes Road on I-575) located in Cobb and Cherokee Counties, Georgia. The approximate length of is approximately 29.7 miles. Those actions grant licenses, permits and approvals for the project.

DATES: By this notice, the FHWA is advising the public of the final agency actions subject to 23 U.S.C. 139(l)(1). A claim seeking judicial review of the Federal agency action on the highway project will be barred unless the claim is filed on or before October 21, 2013. If the Federal law that authorizes judicial review of a claim provides a time period of less than 150 days for filing such claim, then that shorter time period still applies.

FOR FURTHER INFORMATION CONTACT: Mr. Rodney Barry, Division Administrator, Georgia Division, Federal Highway Administration, 61 Forsyth Street, Suite 17T100; Atlanta, Georgia 30303; 8:00 a.m. to 5:00 p.m. (eastern time) Monday through Friday, 404-562-3630; email: Rodney.Barry@dot.gov. For Georgia Department of Transportation (GDOT): Mr. Keith Golden Commissioner, Georgia Department of Transportation, 600 West Peachtree Street, 22th Floor, Atlanta, Georgia 30308, 8:00 a.m. to 5:00 p.m. (eastern time) Monday through Friday, Telephone: (404) 631-1005, Email: KGolden@dot.ga.gov.

SUPPLEMENTARY INFORMATION: Notice is hereby given that the FHWA and other Federal agencies have taken final action actions by issuing licenses, permits and approvals for the following highway project in the State of Georgia: The Northwest Corridor (from Akers Mill Road to Hickory Grove Road on Interstate 75 (I-75) and from I-75 to Sixes Road on I-575) located in metropolitan Atlanta, Georgia. The Selected Alternative will extend the two-I-75 managed lanes that currently terminate Akers Mill Road south of the I-75/I-285 interchange. Two managed lanes would extend north to the I-75/I-575 interchange. A single managed lane would continue north on I-75 from the I-75/I-575 interchange to just beyond Hickory Grove Road. A single managed lane would continue north on I-575 from the I-75/I-575 interchange to the Sixes Road interchange. The facility will include improvements of approximately 16.8 miles on I-75, 11.3 miles on I-575 and 1.6 miles on I-285. The facility will be tolled by electronic toll lane (ETL). The purpose of the project is listed below:

• Improve the transportation effectiveness of I-75 and I-575 to accommodate additional travel and to contribute to the improved performance of the regional highway system;

• Provide additional transportation choices or options that increase the capacity of I-75 and I-575;

• Improve the quality of life by improving mobility and minimizing effects to both natural resources and the built environment;

• Improve transportation equity by providing an equitable distribution of benefits and impacts to all populations; and

• Provide cost-effective and affordable transportation improvements.

The actions by the Federal agencies and the laws under which such actions were taken are described in the Final Environmental Impact Statement (FEIS) and the reevaluation of the FEIS for the Northwest Corridor Project, approved on October 12, 2011 and March 18, 2013 respectively, in FHWA Record of Decision (ROD) issued on May 23, 2013, and in other documents in the FHWA project records. The FEIS, reevaluated FEIS, ROD and other project records are available by contacting FHWA or the Georgia Department of Transportation at the addresses listed above. The FHWA FEIS, reevaluated FEIS and ROD can be reviewed and downloaded from the project Web site at http://www.nwcproject.com or at the following local libraries: Central Library, Atlanta-Fulton County Library System, One Margaret Mitchell Square, Atlanta, GA 30303; Central Library, Cobb County Public Library System, 266 Roswell Street, Marietta, GA 30060; Library Headquarters, RT Jones Memorial Library, Sequoyah Regional Library System, 11 Brown Industrial Parkway, Canton, GA 30114.

A final decision regarding Section 404 permit for this project has not yet been made. This notice, therefore, does not apply to the Section 404 permitting process for this project. This notice applies to all Federal agency decisions as of the issuance date of this notice and all laws under which such actions were taken, including but not limited to:

1. General: National Environmental Policy Act (NEPA) [42 U.S.C. 4321-4351]; Federal-Aid Highway Act [23 U.S.C. 109] and [23 U.S.C. 128];

2. Air: Clean Air Act [42 U.S.C. 7401-7671(q)];

3. Land: Section 4(f) of the Department of Transportation Act of 1966 [49 U.S.C. 303];

4. Wildlife: Endangered Species Act [16 U.S.C. 1531-1544]; Migratory Bird Treaty Act [16 U.S.C. 703-712];

5. Historic and Cultural Resources: Section 106 of the National Historic Preservation Act of 1966, as amended [16 U.S.C. 470f];

6. Social and Economic: Civil Rights Act of 1964 [42 U.S.C. 2000(d)-2000(d)(1)]; Farmland Protection Policy Act (FPPA) [7 U.S.C. 4201-4209];

7. Water Resources: Safe Drinking Water Act [42 U.S.C. 300f et seq.]; Flood Disaster Protection Act [42 U.S.C. 4001-12].

Executive Orders: E.O. 11988, Floodplain Management; E.O. 12898, Federal Actions to Address Environmental Justice in Minority Populations and Low Income Populations; E.O. 13175, Consultation and Coordination with Indian Tribal Governments; E.O. 13112, Invasive Species; E.O. 11514, Protection and Enhancement of Environmental Quality. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Issued on: May 23, 2013.
William C. Farr,
Assistant Division Administrator, Atlanta, Georgia.

[FR Doc. 2013-12830 Filed 5-29-13; 8:45 am]

BILLING CODE P